FEDERAL COMMUNICATIONS COMMISSION

[OMB 3060-1195]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before April 10, 2017. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-1195.

Title: USTelecom Forbearance FCC 13-69 Conditions.

Form Number: N/A.

Type of Review: Extension of a currently approved collection.

Respondents: Business or other for-profit.

Number of Respondents and Responses: 9 respondents; 9 responses.

Estimated Time per Response: 40-232 hours.

Frequency of Response: One-time reporting requirement; annual recordkeeping and certification requirement.

Obligation to Respond: Required to obtain or retain benefits. Statutory authority for this information collection is contained in 47 U.S.C. 151, 154(i), 154(j), 160, 201, 202, 218, 254(k), and 272(e).

Total Annual Burden: 712 hours.

Total Annual Cost: No Cost.

Privacy Act Impact Assessment: No impact(s).

Nature and Extent of Confidentiality: If respondents submit information that they believe is confidential, respondents may request confidential treatment of such information pursuant to section 0.59 of the Commission's rules, 47 CFR 0.459.

Needs and Uses: In a May 2013 Memorandum Opinion and Order (FCC 13-69) (USTelecom Order), the Commission acted on a petition filed by USTelecom and granted forbearance relief to the full extent supported by the record. The collection covers conditional forbearance relief granted by the Commission from Cost Assignment Rules, Property Record Rules, ARMIS Report 43-01, and the Structural Separation Requirement for price cap local exchange carriers (LECs). The data, information, and documents acquired through this collection allow the Commission to meet its statutory requirements while allowing carriers to obtain forbearance relief.

Since release of the USTelecom Order, eight price cap LECs have received conditional forbearance relief from Cost Assignment Rules, Property Record Rules, and the ARMIS Report 43-01 Requirement. None of these LECs has sought forbearance from the Structural Separation Requirement.

Federal Communications Commission.
Marlene H. Dortch,
Secretary, Office of the Secretary.

[FR Doc. 2017-02670 Filed 2-8-17; 8:45 am]

BILLING CODE 6712-01-P